DEPARTMENT OF TRANSPORTATION

Coast Guard

33 CFR Part 165

[COTP Western Alaska-01-002]

RIN 2115-AA97

Safety Zone; Gulf of Alaska, Southeast of Narrow Cape, Kodiak Island, Alaska

AGENCY: Coast Guard, DOT.

ACTION: Temporary final rule; correction.

SUMMARY: The Coast Guard is correcting the effective period for a temporary final rule for a safety zone in the Gulf of Alaska, southeast of Narrow Cape, Kodiak Island, Alaska, that was published in the Federal Register on August 21, 2001 and then amended in the Federal Register on August 29, 2001. This correction is being made because of a revision in the window of time that the rocket is now scheduled to launch. This correction changes the effective period from 2 p.m. to 7:30 p.m. on September 17, 2001, to the same hours each day from September 21, 2001 through September 29, 2001.

DATES: 33 CFR 165.T-01-002 published August 21, 2001 (66 FR 43776), corrected August 29, 2001 (66 FR 45619), and as further corrected in this document, is effective September 21, 2001 through September 29, 2001.

ADDRESSES: The public docket for this rulemaking is maintained by Coast Guard Marine Safety Office Anchorage, 510 “L” Street, Suite 100, Anchorage, AK 99501. Materials in the public docket are available for inspection and copying at Coast Guard Marine Safety Office Anchorage. Normal office hours are 7:30 a.m. to 4 p.m., Monday through Friday, except Federal holidays.

FOR FURTHER INFORMATION CONTACT: LCDR Diane Kalina, Marine Safety Office Anchorage, at (907) 271-6700.

SUPPLEMENTARY INFORMATION: The Coast Guard published a temporary final rule in the Federal Register on August 21, 2001, (66 FR 43774) establishing a temporary safety zone in the Gulf of Alaska, southeast of Narrow Cape, Kodiak Island, Alaska, effective from 2 p.m. on August 31, 2001 through 7:30 p.m. on September 15, 2001. We then published a correction in the Federal Register on August 29, 2001 (66 FR 45619) changing the effective period to a single day, September 17, 2001, to reflect a change in the launch schedule. The zone is needed to protect the safety of persons and vessels operating in the vicinity during a rocket launch from the Alaska Aerospace Development Corporation (AADC), Narrow Cape, Kodiak Island facility. The AADC recently revised the window of time for the rocket to launch to September 21, 2001 through September 29, 2001. The Coast Guard is amending the effective period of the rule to correspond with the new schedule for the launch. This correction changes the one-day effective period, September 17, 2001, to a 9-day effective period, September 21, 2001 through September 29, 2001.

In rule FR Doc. 01-21083 published on August 21, 2001 (66 FR 43774), as amended by a correction published on August 29, 2001 (66 FR 45619), make the following corrections. On page 43775, in the first column, starting on line 3, remove the words “on September 17, 2001” and add in its place the words “each day between September 21, 2001 and September 29, 2001”. On page 43775, in the first column, starting on line 27, remove the words “on September 17, 2001” and add in its place the words “each day between September 21, 2001 and September 29, 2001”. On page 43775, in the second column, starting on line 36, remove the words “on September 17, 2001” and add in its place the words “from September 21, 2001 to September 29, 2001”. On page 43776, in the second column, starting on line 4, remove the words “from 2 p.m. through 7:30 p.m. on September 21, 2001” and add in its place the words “from 2 p.m. through 7:30 p.m. each day from September 21, 2001 through September 29, 2001”.

Dated: September 6, 2001.
W.J. Hutmacher,
Captain, U.S. Coast Guard, Captain of the Port, Western Alaska.

[FR Doc. 01-23340 Filed 9-14-01; 4:51 pm]

BILLING CODE 4910-15-U